DEPARTMENT OF DEFENSE

Department of the Navy

[USN-2006-0053]

Privacy Act of 1974; System of Records

AGENCY: Department of the Navy, DoD.

ACTION: Notice to amend systems of records.

SUMMARY: The Department of the Navy is amending a system of records notice in its existing inventory of record systems subject to the Privacy Act of 1974, (5 U.S.C. 552a), as amended.

DATES: This proposed action will be effective without further notice on October 23, 2006 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: September 15, 2006.
C.R. Choate,
Alternate OSD Federal Register Liaison Officer, Department of Defense.

N01640-1

System name:

Individual Correctional Records (June 16, 2003, 68 FR 35655).

Changes:

System Identifier:

Change “N01640-1” to read “NM01640-1”

* * * * *

System location:

Delete entry and replace with “United States Navy Brigs and United States Marine Corps Correctional Facilities.

Official mailing addresses are published in the Standard Navy Distribution List (SNDL) that is available at http://doni.daps.dla.mil/sndl.aspx and/or may be obtained from the Director, Personal Readiness and Community Support (N153), Navy Personnel Command, 5720 Integrity Drive, Millington, TN 38055-6000.”

* * * * *

Categories of records in the system:

In the next to last sentence add “and sex offender acknowledgement/notification letters.”

Authority for maintenance of the system:

After “10 U.S.C. 951” add “10 U.S.C. 5013, Secretary of the Navy.”

* * * * *

Retention and disposal:

Delete first paragraph and replace with “Two years after a prisoner is released or transferred from a brig or expiration of parole, prisoner paper records are transferred to the appropriate Federal Records Center. Automated records are maintained indefinitely.”

Add a new fifth paragraph to read “Victim/Witness Records are destroyed after two years.”

System manager(s) and address:

Delete entry and replace with “Policy Officials: Director, Personal Readiness and Community Support (N153), 5720 Integrity Drive, Millington, TN 38055-6000 and Commandant of the Marine Corps (Code PSL), Headquarters, U.S. Marine Corps, 2 Navy Annex, Washington, DC 20380-0001.

Record Holders:

United States Naval Brigs and United States Marine Corps Brigs. Official mailing addresses are published in the Standard Navy Distribution List (SNDL) that is available at http://doni.daps.dla.mil/sndl.aspx or may be obtained from the Director, Personal Readiness and Community Support (N153), 5720 Integrity Drive, Millington, TN 38055-6000.”

Notification procedure:

Delete first paragraph and replace with “Individuals seeking to determine whether information about themselves is contained in this system should address written inquiries to the United States Naval Brig or United States Marine Corps Brig where incarcerated. Official mailing addresses are published in the Standard Navy Distribution List (SNDL) that is available at http://doni.daps.dla.mil/sndl.aspx or may be obtained from the Director, Personal Readiness and Community Support (N153), 5720 Integrity Drive, Millington, TN 38055-6000.”

Record access procedures:

Delete first paragraph and replace with “Individuals seeking access to information about themselves contained in this system of records should address written inquiries to the United States Naval Brig or United States Marine Corps Brig where incarcerated. Official mailing addresses are published in the Standard Navy Distribution List (SNDL) that is available at http://doni.daps.dla.mil/sndl.aspx or may be obtained from the Director, Personal Readiness and Community Support (N153), 5720 Integrity Drive, Millington, TN 38055-6000.”

* * * * *

NM01640-1

System name:

Individual Correctional Records.

System location:

United States Navy Brigs and United States Marine Corps Correctional Facilities.

Official mailing addresses are published in the Standard Navy Distribution List (SNDL) that is available at http://doni.daps.dla.mil/sndl.aspx and/or may be obtained from the Director, Personal Readiness and Community Support (N153), Navy Personnel Command, 5720 Integrity Drive, Millington, TN 38055-6000.

Categories of individuals covered by the system:

Military members confined in a naval facility as a result of or pending trial by courts-martial; military members sentenced to three days bread and water or diminished rations; and military members awarded correctional custody to be served in a correctional custody unit.

Categories of records in the system:

Documents related to the administration of individual prisoners in the Department of the Navy confinement and correctional custody facilities—courts martial orders; release orders; confinement orders; medical examiners' reports; requests and receipts for health and comfort supplies; reports and recommendations relative to disciplinary actions; clothing and equipment records; mail and visiting lists and records; personal history records; individual prisoner utilization records; requests for interview; initial interview; spot reports; prisoner identification records; parolee agreements; inspection record of prisoner in segregation; personal funds records; valuables and property record; daily report of prisoners received and released; admission classification summary; social history; clemency recommendations and actions; parole recommendations and actions; restoration recommendations and actions; psychiatric, psychological, and sociological reports; certificate of parole; certificate of release from parole; requests to transfer prisoners; records showing name, grade, Social Security Number, sex, education, sentence, offense(s), sentence computation, organization, ethnic group, discharge awarded, length of unauthorized absence, number and type of prior punishments, length of service, and type release; reports showing legal status, offense charged, and length of time confined; and sex offender acknowledgement/notification letters. Names, addresses, and telephone numbers of victims/witnesses.

Authority for maintenance of the system:

10 U.S.C. 951; 10 U.S.C. 5013, Secretary of the Navy; 42 U.S.C. 10601 et seq., Victim's Rights and Restitution Act of 1990 as implemented by DoD Instruction 1030.2, Victim and Witness Assistance Procedures; and E.O. 9397 (SSN).

Purpose(s):

To determine initial custody classification; to determine when custody grade change is appropriate; to gauge member's adjustment to confinement or correctional custody; to identify areas of particular concern to prisoners and personnel in correctional custody; to determine work assignment; to determine educational needs; serves as the basis for correctional treatment; serves as a basis for recommendations for clemency, restoration, and parole; and to notify victims/witnesses of crime of release related activities.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal, state, and local law enforcement and investigative agencies for investigation and possible criminal prosecution, civil court actions or regulatory order.

To state and local authorities for purposes of providing (1) notification that individuals, who have been convicted of a specified sex offense or an offense against a victim who is a minor, will be residing in the state upon release from military confinement and (2) information about the individual for inclusion in a state operated sex offender registry.

To confinement/correctional system agencies for use in the administration of correctional programs to include custody classification; employment, training and educational assignments; treatment programs; clemency, restoration to duty, and parole actions; verifications concerning military offenders or military criminal records, employment records and social histories.

To victims and witnesses of crime for the purpose of notifying them of date of parole or clemency hearing and other release related activities.

The DoD ‘Blanket Routine Uses’ that appear at the beginning of the Navy's compilation of systems of records notices also apply to this system.

Policies and practices for storing, retrieving, accessing, retaining, and disposing of records in the system:

Storage:

Paper records and computerized database.

Retrievability:

Name and Social Security Number.

Safeguards:

Records are maintained in areas accessible only to authorized personnel who are properly screened, cleared, and trained. Computer database is password protected.

Retention and disposal:

Two years after a prisoner is released or transferred from a brig or expiration of parole, prisoner paper records are transferred to the appropriate Federal Records Center. Automated records are maintained indefinitely.

Federal Records Center Atlanta, 1557 St. Joseph Avenue, East Point, GA 30344 has records from ashore brigs under the area coordination of the Commander, U.S. Atlantic Fleet; Commander, U.S. Naval Forces Europe; Commander, Naval Education and Training, afloat brig on Atlantic Fleet ships, and Naval Consolidated Brig, Charleston.

Federal Records Center Los Angeles, 2400 Avila Road, P.O. Box 6719, Laguna Niegel, CA 92607-6719 has records for ashore brigs under the area consideration of the Commander, U.S. Pacific Fleet; afloat brigs on Pacific Fleet ships; and Naval Consolidated Brig, Miramar.

Records of prisoners accompany their transfer to other facilities.

Victim/Witness Records are destroyed after two years.

System manager(s) and address:

Policy Officials:

Director, Personal Readiness and Community Support (N153), 5720 Integrity Drive, Millington, TN 38055-6000 and Commandant of the Marine Corps (Code PSL), Headquarters, U.S. Marine Corps, 2 Navy Annex, Washington, DC 20380-0001.

Record Holders:

United States Naval Brigs and United States Marine Corps Brigs. Official mailing addresses are published in the Standard Navy Distribution List (SNDL) that is available at http://doni.daps.dla.mil/sndl.aspx or may be obtained from the Director, Personal Readiness and Community Support (N153), 5720 Integrity Drive, Millington, TN 38055-6000.

Notification procedure:

Individuals seeking to determine whether information about themselves is contained in this system should address written inquiries to the United States Naval Brig or United States Marine Corps Brig where incarcerated. Official mailing addresses are published in the Standard Navy Distribution List (SNDL) that is available at http://doni.daps.dla.mil/sndl.aspx or may be obtained from the Director, Personal Readiness and Community Support (N153), 5720 Integrity Drive, Millington, TN 38055-6000.

Requests should include full name and Social Security Number and must be signed by the requesting individual.

Record access procedures:

Individuals seeking access to information about themselves contained in this system of records should address written inquiries to the United States Naval Brig or United States Marine Corps Brig where incarcerated. Official mailing addresses are published in the Standard Navy Distribution List (SNDL) that is available at http://doni.daps.dla.mil/sndl.aspx or may be obtained from the Director, Personal Readiness and Community Support (N153), 5720 Integrity Drive, Millington, TN 38055-6000.

Requests should include full name and Social Security Number and must be signed by the requesting individual.

Contesting record procedures:

The Navy's rules for accessing records, and for contesting contents and appealing initial agency determinations are published in Secretary of the Navy Instruction 5211.5; 32 CFR part 701; or may be obtained from the system manager.

Record source categories:

Military personnel records; military financial and medical records; military and civilian investigative and law enforcement agencies; courts-martial proceedings; records of non-judicial administrative proceedings; United States military commanders; staff members and cadre supply information relative to service member's conduct or duty performance; and other individuals or organizations which may supply information relevant to the purpose for which this system was designed.

Exemptions claimed for the system:

Parts of this system may be exempt pursuant to 5 U.S.C. 552a(j)(2) if the information is compiled and maintained by a component of the agency which performs as its principle function any activity pertaining to the enforcement of criminal laws.

An exemption rule for this system has been promulgated in accordance with requirements of 5 U.S.C. 553(b)(1), (2), and (3), (c) and (e) and published in 32 CFR part 701, subpart G. For additional information contact the system manager.

[FR Doc. 06-7893 Filed 9-20-06; 8:45 am]

BILLING CODE 5001-06-P